DEPARTMENT OF ENERGY

Federal Energy Regulatory Commission

[Project No. 3023-014; Project No. 2972-027]

Blackstone Hydro, Inc., City of Woonsocket, Rhode Island; Notice of Scoping Meetings and Environmental Site Review and Soliciting Scoping Comments

Take notice that the following hydroelectric applications have been filed with Commission and are available for public inspection:

a. Type of Application:

New Major License (P-3023-014)

Subsequent Minor License (P-2972-027)

b. Project Nos.: 3023-014 and 2972-027.

c. Dates filed:

October 1, 2018 (P-3023-014)

November 1, 2018 (P-2972-027)

d. Submitted By:

Blackstone Hydro, Inc. (Blackstone Hydro) (P-3023-014)

City of Woonsocket, Rhode Island (City) (P-2972-027)

e. Names of Project:

Blackstone Hydroelectric Project (P-3023-014)

Woonsocket Falls Project (P-2972-027)

f. Location: The Blackstone Hydroelectric Project is located on the Blackstone River in Providence County, Rhode Island and Worchester County, Massachusetts. The Woonsocket Falls Project is located on the Blackstone River in the City of Woonsocket, Providence County, Rhode Island. The Blackstone Hydroelectric and Woonsocket Falls Projects do not occupy any federal land.

g. Filed Pursuant to: Federal Power Act, 16 U.S.C. 791(a)-825(r).

h. Applicant Contacts: Blackstone Hydroelectric Project—Lewis C. Loon, General Manager, Operations and Maintenance—USA/QC, KEI USA Power Management, Inc., 423 Brunswick Avenue, Gardiner, ME 04345; (207) 203-3027, or lewis.loon@kruger.com.

Woonsocket Falls Project—Mr. Michael Debroisse, City of Woonsocket, Engineering, 169 Main Street, Woonsocket, RI 02895; (401) 767-9213.

i. FERC Contact: Patrick Crile, (202) 502-8042 or Patrick.Crile@ferc.gov.

j. Deadline for filing scoping comments: June 9, 2019.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. All filings must clearly identify the project name and docket number on the first page: Blackstone Hydroelectric Project No. 3023-014 and/or Woonsocket Falls Project No. 2972-027.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. The existing Blackstone Hydroelectric Project consists of: (1) A 210-foot-long, 12-foot-high arch-type masonry dam and spillway (Blackstone Dam) with 12-inch-high flashboards and a crest elevation of 192.8 feet above mean sea level (msl) at the top of the flashboards; (2) an approximately 2-mile-long impoundment with a normal maximum elevation of 192.8 feet msl; (3) water conveyance structures that consist of: (a) A 1,100-foot-long, 60- to 100-foot-wide power canal located 700 feet upstream of the Blackstone Dam; (b) an 11.5-acre headpond at a normal maximum elevation of 192.8 feet msl; (c) a 46-foot-long, 16-foot-high headgate dam structure with four 7-foot-high, 8-foot-wide intake gates; (d) a 300-foot-long, 40-foot-wide headrace canal structure; and (e) four 8-foot-diameter, 22-foot-long buried penstocks; (4) a concrete and brick powerhouse containing four vertical Francis turbine-generator units with a total authorized capacity of 1,724 kilowatts; (5) a 100-foot-long, 40-foot-wide tailrace channel that discharges into the Blackstone River; (6) outlet work structures located downstream of the headgate dam structure in the headrace canal that consist of: (a) A 37-foot-long, 12-foot-high emergency spillway with a crest elevation of 196 feet msl located at the north end of the headrace; (b) two 5-foot-wide, 5-foot-high outlet gates; (c) a 60-foot-long outlet channel; and (d) two 36-inch-diameter, 150-foot-long concrete conduits that empty into a 190-foot-long, 20-foot-wide channel that discharges into the Blackstone River downstream from the tailrace; (7) a 90-foot-long, 4.16-kilovolt (kV) transmission line, a 4.16/13.8-kV step-up transformer, and a 1,300-foot-long, 13.8-kV transmission line connecting the project generators to the regional electric grid; and (8) appurtenant facilities.

Blackstone Hydro operates the project in a run-of-river mode with an annual average generation of approximately 4,027 megawatt-hours. The project bypasses approximately 1 mile of the Blackstone River, and there is currently no required minimum instream flow for the bypassed reach. However, Blackstone Hydro voluntarily maintains a flow between 11 and 21 cubic feet per second (cfs) over the crest of the Blackstone Dam to the bypassed reach using an automatic pond level controller.

Blackstone Hydro proposes to: (1) Continue operating the project in a run-of-river mode; (2) provide a year-round minimum flow of 35 cfs to the bypassed reach; (3) provide upstream eel passage at the project, following installation of an upstream eel passage facility at the downstream Woonsocket Falls Project; (4) implement nighttime turbine shutdowns during the downstream eel passage season to facilitate downstream passage, 10 years after the installation of the upstream eel passage facility; and (5) provide a continuous flow through the intake canal to improve dissolved oxygen levels in the power canal under certain flow conditions from June 1 to October 31.

The existing Woonsocket Falls Project utilizes water from an impoundment that is created by the U.S. Army Corps of Engineers' (Corps) Woonsocket Falls Dam. The project consists of: (1) A 14-foot-wide, 20.5-foot-high concrete intake structure located about 60 feet upstream of the Woonsocket Falls Dam and fitted with a 12-foot-wide, 18-foot-high steel trash rack having 3.5-inch clear bar spacing; (2) a 275-foot long, 12-foot-wide, 10-foot-high concrete penstock; (3) a steel headgate integral with the powerhouse; (4) a 65-foot-long, 25-foot-wide, 20-foot-high concrete powerhouse containing one adjustable blade turbine-generator unit with an authorized capacity of 1,200 kilowatts; (5) a 50-foot-long, 12.5-foot-diameter steel draft tube; (6) an approximately 50-foot-long, 20-foot-wide, 15-foot-deep tailrace; (7) a 35-foot-long 4.16 kilovolt (kV) generator lead line, a 4.16/13.8-kV step-up transformer, and a 1,200-foot-long, 13.8-kV transmission line connecting the project generator to the regional grid; and (8) appurtenant facilities.

The dam and impoundment are operated in a run-of-river mode. The Woonsocket Falls Project bypasses approximately 360 feet of the Blackstone River and there is currently no required minimum instream flow for the bypassed reach. However, a flow of 20 cfs is provided to the bypassed reach over the crest of the dam. The Woonsocket Falls project has an average annual generation of approximately 4,584 megawatt-hours.

The City proposes to: (1) Operate the impoundment in a run-of-river mode pursuant to an operating plan and Memorandum of Agreement (MOA) with the Corps; (2) provide a year-round minimum flow of 20 cfs to the bypassed reach pursuant to an operating plan and MOA with the Corps; (3) provide upstream eel passage at the dam pursuant to an operating plan and MOA with the Corps; and (4) implement nighttime turbine shutdowns during the downstream eel passage season to protect eels during passage.

m. Copies of the applications are available for review at the Commission in the Public Reference Room or may be viewed on the Commission's website at http://www.ferc.gov using the “eLibrary” link. Enter the docket number excluding the last three digits in the docket number field to access the document. For assistance, contact FERC Online Support. Copies are also available for inspection and reproduction at the addresses in item h above. Additionally, copies of the Blackstone project license application are available for viewing during normal business hours at the Blackstone Public Library located at 86 Main Street, Blackstone, MA 01504 and at the North Smithfield Public Library located at 20 N Main St., Slatersville, Rhode Island 02876.

You may also register online at http://www.ferc.gov/docs-filing/esubscription.asp to be notified via email of new filings and issuances related to this or other pending projects. For assistance, contact FERC Online Support.

n. Scoping Process

The Commission intends to prepare an environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Evening Scoping Meeting

Date: Thursday, May 9, 2019

Time: 6:00 p.m. (ET)

Place: Holiday Inn Express & Suites

Address: 194 Fortin Drive, Woonsocket, Rhode Island 02895

Daytime Scoping Meeting

Date: Friday, May 10, 2019

Time: 9:00 a.m. (ET)

Place: Holiday Inn Express & Suites

Address: 194 Fortin Drive, Woonsocket, Rhode Island 02895

Copies of the Scoping Document (SD1) outlining the subject areas to be addressed in the EIS were distributed to the parties on the Commission's mailing list. Copies of the SD1 will be available at the scoping meeting or may be viewed on the web at http://www.ferc.gov using the “eLibrary” link (see item m above).

Environmental Site Review

Blackstone Hydro and FERC staff will conduct an environmental site review of the Blackstone Hydroelectric Project beginning at 9:00 a.m. on May 9, 2019. All interested individuals, organizations, and agencies are invited to attend. All participants should meet at the project powerhouse located at 2 Tupperware Drive, North Smithfield, Rhode Island 02896. All participants interesting in seeing the inside of the project powerhouse will be required to wear steel-toed safety shoes. All participants interested in seeing the project dam, which is located approximately 0.5 mile from the project powerhouse, are responsible for their own transportation. Directions to the dam from the powerhouse will be provided during the environmental site review. Anyone planning to attend the environmental site review should contact Sherri Loon at (207) 203-3026 or Sherri.Loon@kruger.com by May 3, 2019, and indicate how many participants will be attending with you.

The City and FERC staff will conduct a project environmental site review of the Woonsocket Falls Project beginning at 1:00 p.m. on May 9, 2019. All interested individuals, organizations, and agencies are invited to attend. All participants should meet at the City Park located at 0 South Main Street, Woonsocket, RI 02895. The City Park is located adjacent to the Woonsocket Falls Dam, on the east riverbank, near the intersection of South Main and River Streets. All participants are responsible for their own transportation to the site. Anyone planning to attend the environmental site review should contact Bruce DiGennaro at (401) 835-1185 or bruce@essexpartnership.com by May 3, 2019, and indicate how many participants will be attending with you.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the projects.

Individuals, organizations, and agencies with environmental expertise and concerns are encouraged to attend the meeting and to assist the staff in defining and clarifying the issues to be addressed in the EA.

Dated: April 8, 2019.
Kimberly D. Bose,
Secretary.

[FR Doc. 2019-07292 Filed 4-11-19; 8:45 am]

BILLING CODE 6717-01-P